DEPARTMENT OF LABOR

Employment and Training Administration

[TA-W-53,665]

Brown & Williamson Tobacco Corporation Currently Known as R.J. Reynolds Tobacco Company an Operating Subsidiary of Reynolds American, Inc., Macon, GA; Amended Certification Regarding Eligibility To Apply for Worker Adjustment Assistance and Alternative Trade Adjustment Assistance

In accordance with section 223 of the Trade Act of 1974 (19 U.S.C. 2273) the Department of Labor issued a Certification of Eligibility to Apply for Worker Adjustment Assistance and Alternative Trade Adjustment Assistance on January 7, 2004, applicable to workers of Brown & Williamson Tobacco Corporation, Macon, Georgia. The notice was published in the Federal Register on February 6, 2004 (69 FR 5867).

At the request of a company official, the Department reviewed the certification for workers of the subject firm. The workers are engaged in the production of cigarettes.

New information provided by the company shows that Brown & Williamson Tobacco Corporation is currently known as R.J. Reynolds Tobacco Company, an operating subsidiary of Reynolds American, Inc., as of July 30, 2004. Information also shows that workers separated from employment at the subject firm had their wages reported under a separate unemployment insurance (UI) tax account for R.J. Reynolds Tobacco Company.

Accordingly, the Department is amending the certification to properly reflect this matter.

The intent of the Department's certification is to include all workers of Brown & Williamson Tobacco Corporation who were adversely affected by increased imports.

The amended notice applicable to TA-W-53,665 is hereby issued as follows:

“All workers of Brown & Williamson Tobacco Corporation, currently known as R.J. Reynolds Tobacco Company, an operating subsidiary of Reynolds American, Inc., Macon, Georgia, who became totally or partially separated from employment on or after November 14, 2002, through January 7, 2006, are eligible to apply for adjustment assistance under section 223 of the Trade Act of 1974, and are also eligible to apply for alternative trade adjustment assistance under section 246 of the Trade Act of 1974.”

Signed at Washington, DC this 23rd day of September 2004.
Richard Church,
Certifying Officer, Division of Trade Adjustment Assistance.

[FR Doc. 04-22795 Filed 10-8-04; 9:45 am]

BILLING CODE 4510-30-P